DEPARTMENT OF TRANSPORTATION

Federal Aviation Administration

14 CFR Part 39

[Docket No. FAA-2024-1703; Project Identifier MCAI-2023-01054-T; Amendment 39-23005; AD 2025-07-04]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Final rule.

SUMMARY: The FAA is adopting a new airworthiness directive (AD) for all Airbus Canada Limited Partnership Model BD-500-1A11 airplanes. This AD was prompted by a design review of aircraft structural and stress reports that resulted in a revision of operational loads for some aircraft flight phases. This AD requires a review and disposition of all existing repairs and damage assessments for affected structure, corrective actions if necessary, and the prohibition of certain repair engineering orders (REOs), as specified in a Transport Canada AD, which is incorporated by reference. The FAA is issuing this AD to address the unsafe condition on these products.

DATES: This AD is effective May 27, 2025.

The Director of the Federal Register approved the incorporation by reference of certain publications listed in this AD as of May 27, 2025.

ADDRESSES:

AD Docket: You may examine the AD docket at regulations.gov under Docket No. FAA-2024-1703; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Transport Canada material identified in this AD, contact Transport Canada, Transport Canada National Aircraft Certification, 159 Cleopatra Drive, Nepean, Ontario K1A 0N5, Canada; telephone 888-663-3639; email TC.AirworthinessDirectives-Consignesdenavigabilite.TC@tc.gc.ca; website at tc.canada.ca/en/aviation.

• For Airbus Canada material identified in this AD, contact Airbus Canada Limited Partnership, 13100 Henri-Fabre Boulevard, Mirabel, Québec J7N 3C6, Canada; telephone 450-476-7676; email a220_crc@abc.airbus; website a220world.airbus.com.

• You may view this material at the FAA, Airworthiness Products Section, Operational Safety Branch, 2200 South 216th St., Des Moines, WA. For information on the availability of this material at the FAA, call 206-231-3195. It is also available at regulations.gov under Docket No. FAA-2024-1703.

FOR FURTHER INFORMATION CONTACT: Deep Gaurav, Aviation Safety Engineer, FAA, FAA, 2200 South 216th St., Des Moines, WA 98198; phone: 817-228-3731; email: Deep.Gaurav@faa.gov.

SUPPLEMENTARY INFORMATION:

Background

The FAA issued a notice of proposed rulemaking (NPRM) to amend 14 CFR part 39 by adding an AD that would apply to all Airbus Canada Limited Partnership (ACLP) Model BD-500-1A11 airplanes. The NPRM published in the Federal Register on July 3, 2024 (89 FR 55126). The NPRM was prompted by AD CF-2023-70, dated October 5, 2023 (Transport Canada AD CF-2023-70) (also referred to as the MCAI), issued by Transport Canada, which is the aviation authority for Canada. The MCAI states a design review of aircraft structural and stress reports for Model BD-500-1A10 and Model BD-500-1A11 airplanes has resulted in a revision of operational loads for some aircraft flight phases, affecting certain aircraft sections. As a result, repairs and damage assessments accomplished on aircraft to date may have exceeded the available structural margins and require review to ensure they comply with the revised stress data for the affected sections. The MCAI also states that Transport Canada AD CF-2023-37, dated May 30, 2023, mandates that ASRP 136.01 or later approved versions, or ACLP source data approved at the time of the disposition, be used for any new structural assessments, repairs, and dispositions for all Model BD-500-1A10 and Model BD-500-1A11 airplanes. The MCAI mandates the review and disposition of all repairs and damage assessments for affected structure and prohibits the use of previously authorized repairs as source data to generate new repairs for affected structure for Model BD-500-1A11 airplanes.

In the NPRM, the FAA proposed to require using a certain version of the ASRP and a review and disposition of repairs based on previous versions, as specified in Transport Canada AD CF-2023-70. However, as stated in Transport Canada AD CF-2023-70, the requirement to use a certain version of the ASRP (i.e., ASRP 136.01 or later) was mandated by Transport Canada AD CF-2023-37. The FAA adopted that requirement in AD 2025-05-07, Amendment 39-22979 (90 FR 11662, March 11, 2025). Therefore, the FAA has revised the preamble of this AD to remove reference to that requirement and clarify the actions required by this AD.

The FAA is issuing this AD to address in-service repairs in some structural areas that require verification and possibly further repair. The unsafe condition, if not addressed, could result in negative margins for the load envelopes.

You may examine the MCAI in the AD docket at regulations.gov under Docket No. FAA-2024-1703.

Discussion of Final Airworthiness Directive

Comments

The FAA received comments from Delta Air Lines, Inc. (Delta). The following presents the comments received on the NPRM and the FAA's response to each comment.

Request To Correct Reference to Airbus Canada Source Data

Delta requested the FAA revise the exception in paragraph (h)(2) of the proposed AD to replace the reference to “Airbus Canada source data” with “ACLP disposition.” As justification, Delta stated Transport Canada AD CF-2023-70 does not use the term Airbus Canada source data, nor is it defined in that AD.

The FAA partially agrees. The FAA agrees the term “Airbus Canada source data” is not used or defined in the MCAI. However, the FAA has removed paragraph (h)(2) of the proposed AD from this AD instead of revising the exception. Upon review, the FAA has determined an exception is not needed for Part I, paragraph B., of the MCAI because any requirement to contact ACLP for disposition is addressed under the provisions of paragraph (i)(2) of this AD.

Request To Revise Service Bulletin Reference

Delta requested the FAA revise paragraph (h)(3) of the proposed AD to require using Airbus Canada Limited Partnership Service Bulletin BD500-530012, Issue 002, dated March 6, 2024, instead of Issue 001, dated September 13, 2023, for the defining the “Affected Structure.” Delta stated that using the later service bulletin will ensure that improvements incorporated into the work instructions are carried into the final rule.

The FAA partially agrees. The FAA agrees Issue 002 of the service bulletin is acceptable for defining the “Affected Structure,” but Issue 001 may also be used. Therefore, the FAA has revised this AD to allow use of either of these service bulletins. Note that paragraph (h)(3) of the proposed AD has been redesignated as paragraph (h)(2) in this AD.

Request To Allow Use of Certain Generic Repair Engineering Orders (GREOs)

Delta requested the FAA add a new paragraph (h)(5) to the proposed AD to clarify which REOs are acceptable and do not require further review. Delta noted that Airbus Canada Service Bulletin BD500-530012, Issue 002, dated March 6, 2024, specifies that Airbus Canada specific REOs with an issue date later than December 31, 2022, have already been validated and do not require additional approved disposition. Delta requested this statement be amended to also specify that GREOs with an issued date later than September 22, 2022, have already been validated and do not require an additional approved disposition. Delta stated that Airbus Canada confirmed via correspondence that such GREOs have been validated and do not require an additional review and approved disposition.

The FAA partially agrees. The FAA disagrees that all GREOs issued later than September 22, 2022, are acceptable for compliance with the requirements of this AD but agrees certain GREOs may be acceptable for compliance. GREOs apply to a particular operator's fleet, so it would be inappropriate to allow use of all GREOs as of a certain date for all airplanes. However, Transport Canada has provided to the FAA a list of GREOs that are limited to those that address the “Affected Structure” defined in the referenced service information, which may be used to generate a repair disposition for all airplanes. Therefore, the FAA has added a new exception to paragraph (h)(3) of this AD providing the list of acceptable GREOs that may be used to comply with the intent of this AD. The FAA may consider allowing use of other GREOs not listed in the exception as an acceptable method of compliance according to the provisions of paragraph (i)(2) of this AD.

Request To Correct an Email Address for the Airplane Manufacturer

Delta requested the FAA add new paragraph (h)(4) to the proposed AD to clarify the method for contacting Airbus Canada. Delta stated Airbus Canada notified operators that the contact email in Airbus Canada Limited Partnership Service Bulletin BD500-530012, Issue 002, dated March 6, 2024, used for obtaining an approved disposition is being decommissioned and replaced with a new email address. Delta further stated permission would be required to allow use of the new email address to contact Airbus Canada regarding repairs.

The FAA disagrees that an exception is needed to specify how to contact Airbus Canada. Under the provisions of paragraph (i)(2) of this AD, where any requirement of this AD requires obtaining instructions from the manufacturer, the instructions must be accomplished using a method approved by the Manager, AIR-520, Continued Operational Safety Branch, FAA; or Transport Canada; or Airbus Canada Limited Partnership's Transport Canada Design Approval Organization (DAO). Paragraph (i)(2) of this AD does not require how the manufacturer must be contacted. The FAA has not changed this AD in this regard.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Material Incorporated by Reference Under 1 CFR Part 51

Transport Canada AD CF-2023-70 specifies procedures for accomplishing a review and disposition of all existing repairs and damage assessments for affected structure and applicable corrective actions (i.e., determining if an existing repair requires further action based on revised limits and damage assessments and accomplishing applicable actions). Transport Canada AD CF-2023-70 also prohibits the use of certain REOs as source data to generate new repairs for affected structure.

Airbus Canada Limited Partnership Service Bulletin BD500-530012, Issue 001, dated September 13, 2023; and Airbus Canada Limited Partnership Service Bulletin BD500-530012, Issue 002, dated March 6, 2024; specify procedures for doing a check of the airplane maintenance records to identify pre-existing repairs and/or damage, and a detailed inspection of the affected structures for previous damage and/or repairs done after the airplane received is Certificate of Airworthiness. These documents are distinct because the procedures in Issue 002 have been updated.

This material is reasonably available because the interested parties have access to it through their normal course of business or by the means identified in the ADDRESSES section.

Costs of Compliance

The FAA estimates that this AD affects 71 airplanes of U.S. registry. The FAA estimates the following costs to comply with this AD:

Estimated Costs for Required Actions
Labor cost | Parts cost | Cost per product | Cost on U.S. operators
2 work-hours × $85 per hour = $170 | $0 | $170 | $12,070

The FAA has received no definitive data on which to base the cost estimates for the on-condition actions specified in this AD.

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-07-04 Airbus Canada Limited Partnership (Type Certificate Previously Held by C Series Aircraft Limited Partnership (CSALP); Bombardier, Inc.): Amendment 39-23005; Docket No. FAA-2024-1703; Project Identifier MCAI-2023-01054-T.

(a) Effective Date

This airworthiness directive (AD) is effective May 27, 2025.

(b) Affected ADs

None.

(c) Applicability

This AD applies to all Airbus Canada Limited Partnership (Type Certificate previously held by C Series Aircraft Limited Partnership (CSALP); Bombardier, Inc.) Model BD-500-1A11 airplanes, certificated in any category.

(d) Subject

Air Transport Association (ATA) of America Code 51, Standard practices/structures.

(e) Unsafe Condition

This AD was prompted by a design review of aircraft structural and stress reports that resulted in a revision of operational loads for some aircraft flight phases, affecting certain aircraft sections. The FAA is issuing this AD to address in-service repairs in some structural areas that require verification and possibly further repair. The unsafe condition, if not addressed, could result in negative margins for the load envelopes.

(f) Compliance

Comply with this AD within the compliance times specified, unless already done.

(g) Requirements

Except as specified in paragraph (h) of this AD: Comply with all required actions and compliance times specified in, and in accordance with, Transport Canada AD CF-2023-70, dated October 5, 2023 (Transport Canada AD CF-2023-70).

(h) Exception to Transport Canada AD CF-2023-70

(1) Where Transport Canada AD CF-2023-70 refers to its effective date, this AD requires using the effective date of this AD.

(2) Where the definition of “Affected Structure” in Transport Canada AD CF-2023-70 specifies “as identified in Service Bulletin (SB) BD500-530012, Issue 001, dated 13 September 2023 or later revisions approved by the Chief, Continuing Airworthiness, Transport Canada,” this AD requires replacing that text with “as identified in Airbus Canada Limited Partnership Service Bulletin BD500-530012, Issue 001, dated September 13, 2023; or Airbus Canada Limited Partnership Service Bulletin BD500-530012, Issue 002, dated March 6, 2024.”

(3) Where paragraph 1.2.1 of Airbus Canada Limited Partnership Service Bulletin BD500-530012, Issue 001, dated September 13, 2023, specifies “Airbus Canada specific Repair Engineering Order (REO) with an issue date later than December 31, 2022 have already been validated and therefore do not require an additional approved disposition;” and where paragraph 1.2.1 of Airbus Canada Limited Partnership Service Bulletin BD500-530012, Issue 002, dated March 6, 2024, specifies “Airbus Canada specific Repair Engineering Orders (REO) with an issue date later than December 31, 2022 have already been validated and therefore do not require an additional approved disposition;” this AD requires replacing that text with “Airbus Canada specific Repair Engineering Orders (REOs) with an issue date later than December 31, 2022, and Generic Repair Engineering Orders (GREOs) identified in table 1 to paragraph (h)(3) of AD 2025-07-04, have already been validated and therefore do not require an additional approved disposition.”

Table 1 to Paragraph (h)(3)—Acceptable GREOs

BILLING CODE 4910-13-P

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of AIR-520, Continued Operational Safety Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or Transport Canada; or Airbus Canada Limited Partnership's Transport Canada Design Approval Organization (DAO). If approved by the DAO, the approval must include the DAO-authorized signature.

(j) Additional Information

For more information about this AD, contact Deep Gaurav, Aviation Safety Engineer, FAA, FAA, 2200 South 216th St., Des Moines, WA 98198; phone: 817-228-3731; email: Deep.Gaurav@faa.gov.

(k) Material Incorporated by Reference

(1) The Director of the Federal Register approved the incorporation by reference (IBR) of the material listed in this paragraph under 5 U.S.C. 552(a) and 1 CFR part 51.

(2) You must use this material as applicable to do the actions required by this AD, unless this AD specifies otherwise.

(i) Transport Canada AD CF-2023-70, dated October 5, 2023.

(ii) Airbus Canada Limited Partnership Service Bulletin BD500-530012, Issue 001, dated September 13, 2023.

(iii) Airbus Canada Limited Partnership Service Bulletin BD500-530012, Issue 002, dated March 6, 2024.

(3) For Transport Canada material identified in this AD, contact Transport Canada, Transport Canada National Aircraft Certification, 159 Cleopatra Drive, Nepean, Ontario K1A 0N5, Canada; telephone 888-663-3639; email TC.AirworthinessDirectives-Consignesdenavigabilite.TC@tc.gc.ca; website at tc.canada.ca/en/aviation.

(4) For Airbus Canada material identified in this AD, contact Airbus Canada Limited Partnership, 13100 Henri-Fabre Boulevard, Mirabel, Québec J7N 3C6, Canada; telephone 450-476-7676; email a220_crc@abc.airbus; website a220world.airbus.com.

(5) You may view this material at the FAA, Airworthiness Products Section, Operational Safety Branch, 2200 South 216th St., Des Moines, WA. For information on the availability of this material at the FAA, call 206-231-3195.

(6) You may view this material at the National Archives and Records Administration (NARA). For information on the availability of this material at NARA, visit www.archives.gov/federal-register/cfr/ibr-locations or email fr.inspection@nara.gov.

Issued on April 14, 2025.
Peter A. White,
Deputy Director, Integrated Certificate Management Division, Aircraft Certification Service.

[FR Doc. 2025-06841 Filed 4-21-25; 8:45 am]

BILLING CODE 4910-13-C